DEPARTMENT OF COMMERCE

National Oceanic and Atmospheric Administration

RIN 0648-XB136

Fisheries of the South Atlantic; South Atlantic Fishery Management Council; Public Meetings

AGENCY: National Marine Fisheries Service (NMFS), National Oceanic and Atmospheric Administration (NOAA), Commerce.

ACTION: Notice.

SUMMARY: The South Atlantic Fishery Management Council will hold meetings of its: Snapper Grouper AP; Joint Shrimp and Deepwater Shrimp AP; Dolphin Wahoo AP; King and Spanish Mackerel AP; and Coral AP in North Charleston, SC. An MPA Workshop will be held in conjunction with the Snapper Grouper AP meeting. All meetings are open to the public. See SUPPLEMENTARY INFORMATION.

DATES: The meetings will take place from April 18-May 10, 2012. See SUPPLEMENTARY INFORMATION.

ADDRESSES: The meetings will be held at the Hilton Garden Inn, 5265 International Blvd., North Charleston, SC 29418; telephone: (843) 308-9330; fax: (843) 308-9331.

Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Snapper Grouper AP Meeting: April 18-19, 2012

Members of the Snapper Grouper AP will meet from 9 a.m.-5 p.m. on April 18, 2012 and from 9 a.m.-4 p.m. on April 19, 2012. The AP will receive an update on recent amendments, including Snapper Grouper Amendment 24 (red grouper), Snapper Grouper Amendment 18A (black sea bass), Regulatory Amendment 11 (removal of 240 foot closure), Regulatory Amendment 12 (golden tilefish) and Snapper Grouper Amendment 20A (wreckfish). The AP will discuss developing amendments, including: Snapper Grouper Amendment 18B, which includes measures to implement an endorsement program for the commercial golden tilefish fishery; and Snapper Grouper Amendment 20, which addresses the current Individual Transferable Quota (ITQ) program for wreckfish. In addition, the AP will review proposed measures in Comprehensive Ecosystem-Based Amendment 3 including options to create and/or expand existing marine protected areas to help provide protection for speckled hind and Warsaw grouper. The AP will provide recommendations to the Council for consideration.

2. Marine Protected Area (MPA) Workshop: April 18, 2012

The Council will host an MPA Workshop for the public beginning at 6 p.m. in order to solicit input regarding the use of MPAs to reduce bycatch mortality associated with speckled hind and Warsaw grouper.

3. Joint Shrimp AP and Deepwater Shrimp AP Meeting: April 20, 2012

Members of the Joint Shrimp and Deepwater Shrimp AP will meet from 8:30 a.m. until 4 p.m. The APs will review measures in Shrimp Amendment 9 that include revising the Minimum Stock Size Threshold (MSST) proxy for pink shrimp and streamlining the concurrent closure process of penaeid shrimp fisheries. Members will receive a briefing on issues related to Atlantic sturgeon which were recently listed as endangered. The APs will also review options and provide recommendations for expansion of Deepwater Coral Habitat Areas of Particular Concern (HAPC) as included in the Comprehensive Ecosystem-Based Amendment.

4. Dolphin Wahoo AP Meeting: April 24, 2012

Members of the Dolphin Wahoo AP will meet from 8:30 a.m. until 12 noon. The AP will review revised numbers for recreational landings of dolphin and wahoo through the Marine Recreational Information Program and discuss allocation issues.

5. King and Spanish Mackerel AP Meeting: April 24-25, 2012

Members of the King and Spanish Mackerel AP will meet from 1:30 p.m. on April 24, 2012 until 4 p.m. on April 25, 2012. The AP will receive updates on amendments and assessments, including: Mackerel Amendment 18, which establishes Annual Catch Limits and Accountability Measures for mackerel and cobia; and the recent stock assessment of Spanish mackerel and cobia. The AP will discuss developing amendments, including Mackerel Amendment 19 addressing permits and sale of bag-limit mackerel and cobia, and Amendment 20 addressing boundaries and transit provisions. The AP will also review a list of framework items and provide recommendations.

6. Coral AP Meeting: May 9-10, 2012

Members of the Coral AP will meet from 9 a.m. until 5 p.m. on May 9, 2012 and from 8:30 a.m. until 12 noon on May 10, 2012. The AP will review alternatives for expansion of Deepwater Coral HAPCs as included in the draft Comprehensive Ecosystem-Based Amendment 3. The AP will also receive an update from NOAA Fisheries Habitat Conservation Division, an overview of the Florida Reef Managers Meeting, and an update on exotic species. The AP will appoint a chair, elect a vice-chair and will provide recommendations to the Council for consideration.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) 3 days prior to the meeting.

Note: The times and sequence specified in this agenda are subject to change.

Dated: March 27, 2012.
Tracey L. Thompson,
Acting Director, Office of Sustainable Fisheries, National Marine Fisheries Service.

[FR Doc. 2012-7662 Filed 3-29-12; 8:45 am]

BILLING CODE 3510-22-P